DEPARTMENT OF LABOR

Employment and Training Administration

[TA-W-53,349]

Ethan Allen Manufacturing, Inc., Ethan Allen Interiors, Inc., Beecher Falls, VT; Notice of Revised Determination on Reconsideration

On December 26, 2003, the Department of Labor received the petitioner's request for administrative reconsideration of the Negative Determination Regarding Eligibility to Apply for Worker Adjustment Assistance, applicable to workers of the subject firm. The Notice of Affirmative Determination Regarding Application for Reconsideration was issued on February 25, 2004 and will soon be published in the Federal Register.

The petitioner asserted in the request for reconsideration that the worker separations at the subject firm were the result of increased imports of furniture and case goods from China.

The Department's reconsideration investigation revealed increased case goods and furniture imports during the period of employment, sales and production declines at the subject company.

Conclusion

After careful consideration of the new facts obtained on reconsideration, it is concluded that increased imports of case goods and furniture contributed importantly to the decline in production and to the total or partial separation of workers at the subject firm. In accordance with the provisions of the Act, I make the following revised determination:

Workers of Ethan Allen Manufacturing, Inc., Ethan Allen Interiors, Inc., Beecher Falls, Vermont, who became totally or partially separated from employment on or after October 20, 2002 through two years from the date of this certification, are eligible to apply for adjustment assistance under Section 223 of the Trade Act of 1974.

Signed in Washington, DC, this 11th day of March 2004.
Elliott S. Kushner,
Certifying Officer, Division of Trade Adjustment Assistance.

[FR Doc. 04-7175 Filed 3-30-04; 8:45 am]

BILLING CODE 4510-30-P